DEPARTMENT OF ENERGY

Federal Energy Regulatory Commission

Combined Notice of Filings #1

Take notice that the Commission received the following electric rate filings:

Docket Numbers: ER17-569-001.

Applicants: National Choice Energy LLC.

Description: Tariff Amendment: Baseline Amendment to be effective 12/30/2016.

Filed Date: 4/6/17.

Accession Number: 20170406-5242.

Comments Due: 5 p.m. ET 4/27/17.

Docket Numbers: ER17-883-001.

Applicants: Duke Energy Florida, LLC.

Description: Compliance filing: Errata filing to ER17-883 to be effective 4/1/2017.

Filed Date: 4/6/17.

Accession Number: 20170406-5297.

Comments Due: 5 p.m. ET 4/27/17.

Docket Numbers: ER17-949-001.

Applicants: California Independent System Operator Corporation.

Description: Compliance filing: 2017-04-06 Metering Rules Enhancement Compliance to be effective 4/10/2017.

Filed Date: 4/6/17.

Accession Number: 20170406-5306.

Comments Due: 5 p.m. ET 4/27/17.

Docket Numbers: ER17-1385-000.

Applicants: PJM Interconnection, L.L.C.

Description: Tariff Cancellation: Cancellation of First Revised Service Agreement No. 3737, Queue No. Y3-026 to be effective 3/29/2017.

Filed Date: 4/6/17.

Accession Number: 20170406-5102.

Comments Due: 5 p.m. ET 4/27/17.

Docket Numbers: ER17-1386-000.

Applicants: Bishop Hill Energy LLC.

Description: § 205(d) Rate Filing: Revised Rate Schedule to be effective 4/5/2017.

Filed Date: 4/6/17.

Accession Number: 20170406-5303.

Comments Due: 5 p.m. ET 4/27/17.

Docket Numbers: ER17-1387-000.

Applicants: PJM Interconnection, L.L.C.

Description: Tariff Cancellation: Notice of Cancellation of Service Agreement No. 4652, Queue No. AB1-152 to be effective 5/26/2017.

Filed Date: 4/6/17.

Accession Number: 20170406-5311.

Comments Due: 5 p.m. ET 4/27/17.

Docket Numbers: ER17-1388-000.

Applicants: Southern California Edison Company.

Description: § 205(d) Rate Filing: LGIA Luz Solar Partners LTD IV Kramer Junction 4 Project to be effective 4/1/2017.

Filed Date: 4/6/17.

Accession Number: 20170406-5320.

Comments Due: 5 p.m. ET 4/27/17.

Docket Numbers: ER17-1389-000.

Applicants: Southern California Edison Company.

Description: § 205(d) Rate Filing: LGIA Luz Solar Partners LTD III Kramer Junction 3 Project to be effective 4/1/2017.

Filed Date: 4/6/17.

Accession Number: 20170406-5325.

Comments Due: 5 p.m. ET 4/27/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 6, 2017.
Kimberly D. Bose,
Secretary.

[FR Doc. 2017-07352 Filed 4-11-17; 8:45 am]

BILLING CODE 6717-01-P